DEPARTMENT OF ENERGY

Federal Energy Regulatory Commission

[Project No. 2530-057]

Brookfield White Pine Hydro LLC; Notice of Intent To Prepare an Environmental Assessment

On November 20, 2020, Brookfield White Pine Hydro LLC (White Pine Hydro) filed an application for a new license for the 10.9-megawatt Hiram Hydroelectric Project (Hiram Project) (FERC No. 2530). The Hiram Project is located on the Saco River near the towns of Hiram, Baldwin, Denmark, and Brownfield in Oxford and Cumberland Counties, Maine. The project does not occupy federal land.

In accordance with the Commission's regulations, on January 11, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Hiram Project.

The EA will be issued and circulated for review by all interested parties. All comments filed on the EA will be analyzed by staff and considered in the Commission's final licensing decision.

The application will be processed according to the following schedule. Revisions to the schedule may be made as appropriate.

Milestone | Target date
Commission issues draft EA | October 2021.¹
Comments on EA | November 2021.
Modified 4(e) and Fishway Prescriptions | January 2022.
Issue final EA | April 2022.

Any questions regarding this notice may be directed to David Turner at (202) 502-6091 or David.Turner@ferc.gov.

¹ The Council on Environmental Quality's (CEQ) regulations under 40 CFR 1501.10(b)(1) require that EAs be completed within 1 year of the federal action agency's decision to prepare an EA. This notice establishes the Commission's intent to prepare an EA for the Normanskill Project. Therefore, in accordance with CEQ's regulations, the EA must be issued within 1 year of the issuance date of this notice.

Dated: August 4, 2021.
Kimberly D. Bose,
Secretary.

[FR Doc. 2021-16993 Filed 8-9-21; 8:45 am]

BILLING CODE 6717-01-P